COMMITTEE FOR PURCHASE FROM PEOPLE WHO ARE BLIND OR SEVERELY DISABLED

Procurement List; Proposed deletions

AGENCY: Committee for Purchase from People Who Are Blind or Severely Disabled.

ACTION: Proposed deletions from the Procurement List.

SUMMARY: The Committee is proposing to delete products and service(s) from the Procurement List that were furnished by nonprofit agencies employing persons who are blind or have other severe disabilities.

DATES: Comments must be received on or before: October 25, 2025.

ADDRESSES: Committee for Purchase from People Who Are Blind or Severely Disabled, 355 E Street SW, Suite 325, Washington DC, 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion to the Procurement List:

Product(s)

NSN(s)—Product Name(s):

7045-01-568-4203—USB Flip Drive, Water Resistant, Silver/Black, 2GB

7045-01-568-4204—USB Flip Drive, Water Resistant, Silver/Black, 4GB

7045-01-568-4208—USB Flash Drive, 256-Bit SES Encryption, Water Resistant, Silver/Black, 2GB

7045-01-568-4209—USB Flash Drive, 256-Bit SES Encryption, Water Resistant, Silver/Black, 4GB

Authorized Source of Supply: North Central Sight Services, Inc., Williamsport, PA

Contracting Activity: GSA/FAS ADMIN SVCS ACQUISITION BR(2

NSN(s)—Product Name(s):

7045-01-406-5391—Compact Disc, Recordable, Gold, BX/25

7045-01-429-3462—Compact Disc, Recordable, Gold, Sleeves and Mailers

Authorized Source of Supply: North Central Sight Services, Inc., Williamsport, PA

Contracting Activity: DLA TROOP SUPPORT

Service(s)

Service Type: Janitorial/Custodial

U.S. Army Reserve Center: 4301 Goodfellow Boulevard, Center #3

Mandatory for: U.S. Army Reserve Center: 4301 Goodfellow Boulevard, Center #3

Contracting Activity: DEPT OF THE ARMY, W6QM MICC FT MCCOY (RC)

Service Type: Custodial

Mandatory for: FAA, EWR TSS Room, North Cargo Bldg 157, Liberty International Airport, Newark, NJ

Contracting Activity: FEDERAL AVIATION ADMINISTRATION, 697DCK REGIONAL ACQUISITIONS SVCS

Service Type: Embroidery of USAF Service Name Tapes & Emboss

Mandatory for: Lackland Air Force Base

Contracting Activity: DEPT OF THE AIR FORCE, FA7014 AFDW PK

Service Type: Janitorial/Custodial

Mandatory for: GSA PBS Region 5, Eau Claire Federal Building and US Courthouse, Eau Claire, WI

Contracting Activity: GENERAL SERVICES ADMINISTRATION, PBS R5

Service Type: Laundry/Dry Cleaning

Mandatory for: US Army, Fort Johnson, 2038 9th Street Bldg 1352, Fort Johnson, LA

Contracting Activity: DEPT OF THE ARMY, W6QM MICC-FT JOHNSON

Service Type: Admin Services for FPS in San Francisco and Los Angeles

Mandatory for: DHS, FPS, Region 9, Federal Protective Service, Reno, NV

Contracting Activity: DEPT OF HOMELAND SECURITY, FPS WEST CCG

Michael R. Jurkowski,
Director, Business Operations.

[FR Doc. 2025-18592 Filed 9-24-25; 8:45 am]

BILLING CODE 6353-01-P